FEDERAL COMMUNICATIONS COMMISSION

47 CFR Part 2

[ET Docket No. 13-115; RM-11341; FCC 23-76; FR ID 240711]

Allocation of Spectrum for Non-Federal Space Launch Operations; Federal Earth Stations Communicating With Non-Federal Fixed Satellite Service Space Stations; and Federal Space Station Use of the 399.9-400.05 MHz Band

AGENCY: Federal Communications Commission.

ACTION: Final rule; correcting amendments.

SUMMARY: The Federal Communications Commission (Commission) is correcting a final rule that appeared in the Federal Register on August 5, 2024.

DATES: This correction is effective September 4, 2024.

FOR FURTHER INFORMATION CONTACT: Nicholas Oros of the Office of Engineering and Technology, at Nicholas.Oros@fcc.gov or 202-418-0636.

SUPPLEMENTARY INFORMATION: The FCC is correcting the Table of Allocations in 47 CFR 2.106. A rule the FCC published August 5, 2024, at 89 FR 63296 contained errors in the table formatting.

Accordingly, in FR Rule Doc. No. 2024-16638, appearing on page 63296 in the Federal Register of Monday, August 5, 2024, the following corrections are made:

§ 2.106 [Corrected]

1. On pages 63315 through 63317, correct pages 26, 36, and 37 in § 2.106(a) to read as follows:

BILLING CODE 6712-01-P

Federal Communications Commission
Marlene Dortch,
Secretary.

[FR Doc. 2024-19176 Filed 8-28-24; 8:45 am]

BILLING CODE 6712-01-C